DEPARTMENT OF TRANSPORTATION

Coast Guard

33 CFR Part 117

[CGD08-02-008]

Drawbridge Operating Regulation; Bayou Boeuf, LA

AGENCY: Coast Guard, DOT.

ACTION: Notice of temporary deviation from regulations.

SUMMARY: The Commander, Eighth Coast Guard District has issued a temporary deviation from the regulation in 33 CFR 117 governing the operation of the Burlington Northern Santa Fe Railway railroad swing span drawbridge across Bayou Boeuf, mile 10.2, near Amelia, Louisiana. This deviation allows the Burlington Northern Santa Fe Railway to close the bridge to navigation from 8 a.m. until 2 p.m., from 4 p.m. until 10 p.m. and from midnight until 6 a.m. daily from June 3, 2002 through June 10, 2002. Presently, the draw is required to open on signal. This temporary deviation will allow for the replacement of the pinion gear and segment rack.

DATES: This deviation is effective from 8 a.m. on Monday, June 3, 2002 until 10 p.m. on Monday, June 10, 2002.

ADDRESSES: Unless otherwise indicated, documents referred to in this notice are available for inspection or copying at the office of the Eighth Coast Guard District, Bridge Administration Branch, Commander (obc), 501 Magazine Street, New Orleans, Louisiana, 70130-3396. The Bridge Administration Branch maintains the public docket for this temporary deviation.

FOR FURTHER INFORMATION CONTACT: Phil Johnson, Bridge Administration Branch, telephone (504) 589-2965.

SUPPLEMENTARY INFORMATION: The Burlington Northern Santa Fe Railway railroad swing span drawbridge across Bayou Boeuf, mile 10.2, near Amelia, Louisiana, has a vertical clearance in the closed-to-navigation position of 6 feet above high water and unlimited clearance in the open-to-navigation position. Navigation on the waterway consists of small tugs with tows, fishing vessels, and recreational craft. Presently, the draw opens on signal.

The Burlington Northern Santa Fe Railway requested a temporary deviation for the operation of the drawbridge to accommodate maintenance work. The work involves removing and replacing the pinion gear, removing the segment rack, resurfacing the segment area and anchoring a new segment rack to the pier. This work is essential for continued operation of the draw span of the bridge.

This deviation allows the draw of the Burlington Northern Santa Fe Railway railroad swing span drawbridge across Bayou Boeuf, mile 10.2, near Amelia, Louisiana, to remain closed to navigation from 8 a.m. until 2 p.m., from 4 p.m. until 10 p.m. and from midnight until 6 a.m. daily from June 3, 2002 through June 10, 2002.

Dated: April 5, 2002.
Roy J. Casto,
Rear Admiral, U.S. Coast Guard, Commander, Eighth Coast Guard District.

[FR Doc. 02-9412 Filed 4-17-02; 8:45 am]

BILLING CODE 4910-15-P